DEPARTMENT OF TRANSPORTATION

Federal Aviation Administration

14 CFR Part 39

[Docket No. FAA-2005-22481; Directorate Identifier 2004-NM-176-AD]

RIN 2120-AA64

Airworthiness Directives; Bombardier Model CL-600-2B19 (Regional Jet Series 100 & 440) Airplanes

AGENCY: Federal Aviation Administration (FAA), Department of Transportation (DOT).

ACTION: Notice of proposed rulemaking (NPRM).

SUMMARY: The FAA proposes to supersede an existing airworthiness directive (AD) that applies to certain Bombardier Model CL-600-2B19 (Regional Jet Series 100 & 440) airplanes. The existing AD currently requires revising the Airplane Flight Manual (AFM) to provide the flightcrew with revised procedures for checking the flap system. The existing AD also requires revising the maintenance program to provide procedures for checking the flap system, and performing follow-on actions, if necessary. This proposed AD would require installing new flap actuators, a new or retrofitted air data computer, a new skew detection system, and new airspeed limitation placards; and revising the AFM to include revised maximum allowable speeds for flight with the flaps extended, and a new skew detection system/crosswind-related limitation for take-off flap selection. This proposed AD is prompted by a number of cases of flap system failure that resulted in a twisted outboard flap panel. We are proposing this AD to prevent an unannunciated failure of the flap system, which could result in a flap asymmetry and consequent reduced controllability of the airplane.

DATES: We must receive comments on this proposed AD by October 21, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Bombardier, Inc., Canadair, Aerospace Group, P.O. Box 6087, Station Centre-ville, Montreal, Quebec H3C 3G9, Canada.

You can examine the contents of this AD docket on the Internet at http://dms.dot.gov, or in person at the Docket Management Facility, U.S. Department of Transportation, 400 Seventh Street SW., room PL-401, on the plaza level of the Nassif Building, Washington, DC. This docket number is FAA-2005-22481; the directorate identifier for this docket is 2004-NM-176-AD.

FOR FURTHER INFORMATION CONTACT: Daniel Parrillo, Aerospace Engineer, Systems and Flight Test Branch, ANE-172, FAA, New York Aircraft Certification Office, 1600 Stewart Avenue, Suite 410, Westbury, New York 11590; telephone (516) 228-7305; fax (516) 794-5531.

SUPPLEMENTARY INFORMATION:

Comments Invited

We invite you to submit any relevant written data, views, or arguments regarding this proposed AD. Send your comments to an address listed under ADDRESSES. Include “Docket No. FAA-2005-22481; Directorate Identifier 2004-NM-176-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System (DMS) receives them.

Discussion

On September 17, 1998, we issued AD 98-20-01, amendment 39-10767 (63 FR 49661, September 17, 1998), for certain Bombardier Model CL-600-2B19 (Regional Jet Series 100) series airplanes. That AD requires revising the airplane flight manual (AFM) to provide the flight crew with revised procedures for checking the flap system. That AD also requires revising the maintenance program to provide procedures for checking the flap system, and performing follow-on actions, if necessary. That AD was prompted by issuance of mandatory continuing airworthiness information by a civil airworthiness authority of another country. We issued that AD to prevent an unannunciated failure of the flap system, which could result in a flap asymmetry, and consequent reduced controllability of the airplane.

Actions Since Existing AD Was Issued

A number of flap systems had failed and caused twisted outboard flap panels before we issued AD 98-20-01. An internal fault within the number 3 flap actuator (the inboard actuator on the outboard flap) caused the failures. In one case, a twisted flap was not detected before take-off, while in other cases the twisted flap occurred on deployment of the flaps for landing. In all cases the airplane was controllable and landed successfully. Several other cases have occurred while the airplanes were on the ground.

Since we issued AD 98-20-01, Transport Canada Civil Aviation (TCCA) has issued its applicable revised airworthiness directive, CF-1998-14R4, dated June 1, 2004 (AD 98-20-01 refers to CF-1998-14, dated July 6, 1998). The revision to airworthiness directive CF-1998-14 changes the text of the revisions to the airplane flight manual (AFM) that were mandated by TCCA and that we also mandated in AD 98-20-01. In addition, the revision to airworthiness directive CF-1998-14 also mandates the following: installing new airspeed limitation placards and decals; doing certain maintenance actions following a “FLAPS FAIL” caution message, including replacing both actuators if necessary; establishing a “health check” program for the number 3 flap actuator which includes incorporating Canadair Temporary Revision (TR) RJ/71 into the Canadair Regional Jet AFM (to reflect the airspeed limitations); installing new flap actuators, a new or retrofitted air data computer (ADC), and a new skew detection system (SDS) for the outboard flaps; and revising the Limitations section of the Canadair Regional Jet AFM to include the information specified in Canadair TR RJ/128, to include revised maximum allowable speeds for flight with the flaps extended (VFE), and a new SDS/crosswind-related limitation for take-off flap selection.

In addition, in the preamble to AD 98-20-01 we specified that we considered the requirements “interim action” and that the manufacturer was developing a modification to address the unsafe condition. That AD explained that we may consider further rulemaking if a final action is identified. The final action has now been identified, and we have determined that further rulemaking is indeed necessary; this proposed AD follows from that determination.

Relevant Service Information

Bombardier (Canadair) has issued TR RJ/128, dated November 28, 2003, to the Canadair Regional Jet AFM, CSP A-102. This TR includes revised VFE values, and a new SDS/crosswind-related limitation for take-off flap selection.

Bombardier (Canadair) has also issued the service bulletins identified in the following table, for Bombardier Model CL-600-2B19 (Regional Jet Series 100 & 440) airplanes having serial numbers 7003 through 7903 inclusive as identified in each service bulletin.

Bombardier (Canadair) Service Bulletins
Bombardier Service Bulletin | Revision | Date | Procedure
601R-11-080 | Original | November 28, 2003 | Install new airspeed limitation placards.
601R-27-111 | Original | March 6, 2000 | Remove decal.
601R-27-114, including Appendix A | B | December 4, 2003 | Replace #3 inboard and #4 outboard flap actuators for the outboard flaps.
601R-27-115 | D | March 18, 2004 | Install electrical provisions for the SDS.
601R-27-116 | B | February 2, 2004 | Install and activate the SDS.
601R-34-128 | B | September 7, 2001 | Install the air data computer (ADC) containing software with reduced flap overspeed.

Accomplishing the actions specified in the service information is intended to adequately address the unsafe condition. TCCA mandated the service information, and issued Canadian airworthiness directive CF-1998-14R4, dated June 1, 2004, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that AD action is necessary for airplanes of this type design that are certificated for operation in the United States.

This proposed AD would supersede AD 98-20-01. This proposed AD would retain the requirements of the existing AD. This proposed AD also would require installing new flap actuators, a new or retrofitted air data computer, a new skew detection system, and new airspeed limitation placards; and revising the AFM to include revised maximum allowable speeds for flight with the flaps extended, and a new skew detection system/crosswind-related limitation for take-off flap selection. Doing the new proposed actions would terminate the requirements of the existing AD.

Difference Between the Proposed AD and the Canadian Airworthiness Directive

The Canadian airworthiness directive includes several actions that are not included in this proposed AD: incorporating revised AFM procedures for checking the flap system; installing new airspeed limitation placards and decals; doing certain maintenance actions following a “FLAPS FAIL” caution message, including replacing both actuators if necessary; establishing a “health check” program for the number 3 flap actuator; and incorporating TR RJ/71 into the AFM (to reflect the airspeed limitations). We have determined that these actions were mandated by TCCA as interim actions until a final action was developed by the manufacturer. We find that the revision to the AFM that was previously mandated by AD 98-20-01 provides an adequate level of safety without our mandating the interim actions specified in the Canadian airworthiness directive. Mandating these interim actions would add an additional cost burden to operators without improving safety.

This difference has been coordinated with TCCA.

Changes to Existing AD

This proposed AD would retain all requirements of AD 98-20-01. Since AD 98-20-01 was issued, the AD format has been revised, and certain paragraphs have been rearranged. As a result, the corresponding paragraph identifiers have changed in this proposed AD, as listed in the following table:

Revised Paragraph Identifiers
Requirement in AD 98-20-01 | Corresponding requirement in this proposed AD
Paragraph (a) | Paragraph (f).
Paragraph (b) | Paragraph (g).

In addition, Note 2 from the existing AD has been changed to Note 1. The information from Note 1 in AD 98-20-01 has been incorporated into paragraph (l) of this proposed AD.

Explanation of Change to Applicability

We have revised the applicability to reflect the model designations as published in the most recent type certificate data sheets.

Costs of Compliance

The following table provides the estimated costs for U.S. operators to comply with this proposed AD. For all actions the average labor rate is $65 and the number of U.S.-registered airplanes is 651.

Estimated Costs
Action | Work hours | Parts | Cost per airlane | Fleet cost
Revise the AFM (required by AD 98-20-01) | 1 | N/A | $65 | $42,315
Revise the maintenance (required by AD 98-20-01) | 1 | N/A | 65 | 42,315
Install ADC (new proposed action) | 1 | No Charge | 65 | 42,315
Install #3 and #4 flap actuators (new proposed action) | 18 | No Charge | 1,170 | 761,670
Install skew detection system (new proposed action) | 147 | No Charge | 9,555 | 6,220,305
Install new airspeed limitation placards (new proposed action) | 1 | No Charge | 65 | 42,315
Revise the AFM (new proposed action) | 1 | N/A | 65 | 42,315

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-10767 (63 FR 49661, September 17, 1998) and adding the following new airworthiness directive (AD):

Bombardier, Inc. (Formerly Canadair): Docket No. FAA-2005-22481; Directorate Identifier 2004-NM-176-AD.

Comments Due Date

(a) The Federal Aviation Administration must receive comments on this AD action by October 21, 2005.

Affected ADs

(b) This AD supersedes AD 98-20-01.

Applicability

(c) This AD applies to Bombardier Model CL-600-2B19 (Regional Jet Series 100 & 400) airplanes, certificated in any category, serial numbers 7003 through 7903 inclusive.

Unsafe Condition

(d) This AD was prompted by a number of cases of flap system failure that resulted in a twisted outboard flap panel. We are issuing this AD to prevent an unannunciated failure of the flap system, which could result in a flap asymmetry and consequent reduced controllability of the airplane.

Compliance

(e) You are responsible for having the actions required by this AD performed within the compliance times specified, unless the actions have already been done.

Restatement of the Requirements of AD 98-20-01

Note 1: Bombardier Service Letter RJ-SL-27-002A, dated April 8, 1998, and Service Letter RJ-SL-27-037, dated July 2, 1998, may provide operators with additional information concerning the actions required by this AD. However, accomplishment of the procedures specified in these service letters should not be considered to be an acceptable method of compliance with the requirements of this AD.

(f) Within 10 days after October 2, 1998 (the effective date of AD 98-20-01), accomplish the requirements of paragraphs (f)(1), (f)(2), and (f)(3) of this AD.

(1) Revise the Limitations Section of the FAA-approved airplane flight manual (AFM) to include the following procedures and Figures 1 and 2 of this AD. After accomplishing the actions in paragraphs (h) and (i) of this AD, remove the revisions required by this paragraph of this AD from the AFM.

“Air Operator Actions

IMPORTANT: If the outboard flap position is outside the ‘GO’ range, as shown in figure 2., further flight is prohibited until required maintenance actions have been accomplished.

1. Touch-and-go landings for the purposes of training must be accomplished using a flap setting of 20 degrees for the entire procedure.

2. (a) Take-off flaps must be set prior to departure, and

(b) An external visual check must be accomplished to detect any twisting, skewing, or abnormal deformation of the flaps, using the information given in Figures 1 and 2.

Note 1: If the outboard flap position is outside the ‘GO’ range as shown in figure 2., further flight is prohibited until required maintenance actions have been accomplished.

Note 2: This visual check must be accomplished either by a member of the flight crew or by maintenance personnel, and the results reported directly to the pilot-in-command prior to take-off.

3. If any additional change to the flap position is necessary, prior to take-off, accomplish the visual check specified by the preceding paragraph 2. (b).”

(2) Revise the Normal Procedures Section of the FAA-approved AFM to include the following procedures:

“To minimize a possible flap twist in flight when operating flaps, operate the flap selector sequentially, stopping at each setting (i.e., 0 degrees, 8 degrees if applicable, 20 degrees, 30 degrees, 45 degrees; or operate the flap selector in reverse order), and waiting for the flaps to reach each position before selecting the next setting. Monitor the control wheel for abnormal control wheel angles during each transition in flap position.

Note: This procedure is not applicable during a go-around or during any emergency aircraft handling procedure where prompt flap retraction is required. In these cases, follow the applicable AFM procedures.”

(3) Revise the Abnormal Procedures Section of the FAA-approved AFM to include the following procedures.

“If abnormal aileron control wheel angles develop during flap operation with the autopilot on, or if the aircraft rolls without pilot input with the autopilot off (with or without a ‘FLAPS FAIL’ caution message), perform the following actions:

1. If flaps are being extended, immediately return the flaps to the previously selected position (e.g., for flaps selected from 8 degrees to 20 degrees, re-select 8 degrees).

2. If flaps are being retracted, the flap selector should remain in the currently selected position (e.g., for flaps selected from 20 degrees to 8 degrees, leave selector at 8 degrees).

3. Do not attempt to operate the flaps any further.

4. If the flaps are engaged, disconnect the autopilot.

Note: When disconnecting the autopilot, anticipate an out-of-trim situation and hold the aileron control wheel in its current position.

5. For landing, perform the ‘Flaps Failure’ procedure for the following conditions:

(a) If an abnormal aileron control wheel angle to the left develops, do not land if a crosswind from the left is greater than 20 knots.

(b) If an abnormal aileron control wheel angle to the right develops, do not land if a crosswind from the right is greater than 20 knots.

6. After landing, do not attempt to retract the flaps. Record the event in the Aircraft Maintenance Log Book and notify the person responsible for maintenance.”

BILLING CODE 4910-13-P

BILLING CODE 4910-13—C

(g) Within 10 days after October 2, 1998, revise the FAA-approved maintenance program to include the following procedures and Figures 1 and 2 of this AD:

“Maintenance Procedure

Whenever a ‘FLAPS FAIL’ caution message occurs, carry out the following procedures after landing:

Note: These procedures are to be accomplished by maintenance personnel only.

1. Check that there have been no other ‘FLAPS FAIL’ caution messages reported within the previous 72 hours. If a previous message has been reported, prior to further flight, perform the actions required in the following Maintenance Action section. If no previous ‘FLAPS FAIL’ caution message has been reported, continue with the following:

2. Carry out an external visual check of each outboard flap for evidence of twisting, skewing, or abnormal deformation. (Reference Figures 1 and 2.)

3. If there is no evidence of twisting, skewing, or abnormal deformation, proceed as follows:

(a) Reset the flap system ONLY ONCE by cycling circuit breakers CB1-F4 and CB2-F4.

(b) If the system does not reset (i.e., the ‘FLAPS FAIL’ caution message is still posted), prior to further flight, perform the actions required in the following Maintenance Action section.

(c) If the system resets, cycle the flaps to 45 degrees and back to 0 degrees. Continued flap operation for up to a maximum of 72 hours is then permitted as long as no additional ‘FLAPS FAIL’ caution message is indicated.

(d) If an additional ‘FLAPS FAIL’ caution message occurs within the period of 72 hours, as specified above, prior to further flight, perform the actions required in the following Maintenance Action section.

(e) Within 72 hours, even if no further ‘FLAPS FAIL’ messages have been indicated, perform the actions required in the following Maintenance Action section.

4. If there is evidence of twisting, skewing, or abnormal deformation, PRIOR TO FURTHER FLIGHT, perform the actions required in the following Maintenance Action section.

Maintenance Action

Whenever the outboard flap position indicator is outside the ‘GO’ range as shown in Figure 2, or whenever directed to do so by the Maintenance Procedure above, perform the following procedures:

A. Interrogate the flap electronic control unit (FECU) per Fault Isolation Manual, Section 27-50-00, ‘Flaps Fault Isolation,’ and rectify as applicable.

B. Visually check each flap for evidence of twisting, skewing, or abnormal deformation.

1. If there is no evidence of twisting, skewing, or abnormal deformation, manually isolate any jammed, disconnected, or dragging component; and rectify all discrepant conditions.

2. If there is evidence of twisting, skewing, or abnormal deformation, replace both actuators and any discrepant flap panel with new or serviceable components. In addition, inspect flexible shaft(s) inboard of the most outboard actuator removed for discrepancies, and replace any discrepant flexible shaft with a new or serviceable flexible shaft.

Note: An acceptable procedure for testing the flap drive breakaway input torque is detailed in Aircraft Maintenance Manual Temporary Revision 27-203, Task 27-53-00-750-802, dated July 17, 1998.

C. Within 3 days after identifying a flap panel twist or logging a ‘FLAPS FAIL’ caution message, notify Bombardier Aerospace, via the Canadair Regional Jet Action Center, of all findings and actions taken.”

New Requirements of the AD

Install New Flap Actuators

(h) Within 12 months after the effective date of this AD: Install new Number 3 and Number 4 flap actuators in accordance with the Accomplishment Instructions of Bombardier Service Bulletin 601R-27-114, Revision B, dated December 4, 2003. The actions in paragraph (h) of this AD must be accomplished prior to or concurrently with the actions in paragraph (i) of this AD.

Install Skew Detection System (SDS) and Air Data Computer

(i) Within 30 months after the effective date of this AD, but after the actions required by paragraph (h) of this AD have been accomplished: install the SDS in accordance with paragraphs (i)(1), (i)(2), (i)(3), (i)(4), and (i)(5) of this AD. These actions must be accomplished in the order stated in this paragraph. Accomplishing the actions in paragraphs (h) and (i) of this AD terminates the requirements of paragraphs (f) and (g) of this AD, and the AFM revisions required by those paragraphs may be removed from the AFM.

(1) Install the electrical provisions for the SDS in accordance with the Accomplishment Instructions of Bombardier Service Bulletin 601R-27-115, Revision D, dated March 18, 2004.

(2) Install and activate the SDS in accordance with the Accomplishment Instructions of Bombardier Service Bulletin 601R-27-116, Revision B, dated February 2, 2004; and install a new or retrofitted air data computer (ADC) in accordance with the Accomplishment Instructions of Bombardier Service Bulletin 601R-34-128, Revision B, dated September 7, 2001.

(3) Install new airspeed limitation placards in accordance with the Accomplishment Instructions of Bombardier Service Bulletin 601R-11-080, dated November 28, 2003.

(4) Revise the Limitations section of the AFM to include the information specified in Canadair Temporary Revision (TR) RJ/128, dated November 28, 2003, to Canadair Regional Jet AFM, CSP A-102, to include revised VFE values, and a new SDS and crosswind-related limitation for take-off flap selection.

Note 2: The action in paragraph (i)(4) of this AD may be accomplished by inserting a copy of Canadair TR RJ/128 in the AFM. When this temporary revision has been incorporated into the general revisions of the AFM, the general revisions may be inserted in the AFM, provided the information contained in the general revision is identical to that specified in Canadair Temporary Revision RJ/128.

(5) For airplanes on which decals stating “Visually inspect flaps prior to departure” have been installed in production or in accordance with an alternative method of compliance (AMOC) granted by the FAA: After the installation required by paragraph (h)(1), (i)(1), (i)(2), (i)(3), and (i)(4) of this AD, remove the decals in accordance with Part A of Bombardier Service Bulletin 601R-27-111, dated March 6, 2000.

Note 3: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an AMOC according to paragraph (1) of this AD. The request should include a description of changes to the required inspections that will ensure the continued damage tolerance of the affected structure. The FAA has provided guidance for this determination in Advisory Circular (AC) 25-1529.

Actions Accomplished in Accordance With Previous Revisions of Service Bulletins

(j) Actions accomplished before the effective date of this AD according to the service bulletins identified in paragraphs (j)(1) and (j)(2) of this AD, are considered acceptable for compliance with the corresponding action specified in paragraphs (h) and (i) of this AD.

(1) For the action in paragraph (h) of this AD: Bombardier Service Bulletin 601R-27-114, dated March 22, 2002; or Revision A, dated November 6, 2002.

(2) For the actions in paragraph (i) of this AD: Bombardier Service Bulletin 601R-27-116, dated July 23, 2003; or Revision A, dated September 10, 2003.

Parts Installation

(k)(1) As of 12 months after the effective date of this AD, no person may install on any airplane a flap actuator with part numbers (P/Ns) 601R93103-5, -6, -7, -8, -9, -10, -11, -12, -17, and -18 (Vendor P/Ns 853D100 -7, -8, -9, -10, -11, -12, -13, -14, -17 and -18).

(2) As of 12 months after the effective date of this AD, no person may install on any airplane a flap actuator with P/Ns 601R93104-5, -6, -7, -8, -9 and -10 (Vendor P/Ns 854D100-7, -8, -9, -10, -11 and -12).

(3) As of 30 months after the effective date of this AD, no person may install on any airplane an ADC with P/Ns 822-0372-140 and -143.

AMOCs

(l)(1) The Manager, New York ACO, FAA, has the authority to approve AMOCs for this AD, if requested in accordance with the procedures found in 14 CFR 39.19.

(2) AMOCs approved previously according to AD 98-20-01, are approved as AMOCs for the corresponding provisions of this AD.

Related Information

(m) Canadian airworthiness directive CF-1998-14R4, dated June 1, 2004, also addresses the subject of this AD.

Issued in Renton, Washington, on September 8, 2005.
Kalene C. Yanamura,
Acting Manager, Transport Airplane Directorate, Aircraft Certification Service.

[FR Doc. 05-18794 Filed 9-20-05; 8:45 am]

BILLING CODE 4910-13-P